DEPARTMENT OF THE INTERIOR

National Park Service

[NPS-WASO-NAGPRA-12666; PPWOCRADN0-PCU00RP14.R50000]

Notice of Inventory Completion: The Florida Department of State, Division of Historical Resources, Tallahassee, FL

AGENCY: National Park Service, Interior.

ACTION: Notice.

SUMMARY: The Florida Department of State, Division of Historical Resources, has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to The Florida Department of State, Division of Historical Resources. If no additional requestors come forward, transfer of control of the human remains to the Indian tribes or Native Hawaiian organizations stated in this notice may proceed.

DATES: Representatives of any Indian tribe or Native Hawaiian organization not identified in this notice that wish to request transfer of control of these human remains should submit a written request with information in support of the request to The Florida Department of State, Division of Historical Resources, at the address in this notice by May 15, 2013.

ADDRESSES: Daniel M. Seinfeld, Florida Department of State, Division of Historical Resources, 1001 de Soto Park Drive, Tallahassee, FL 32301, telephone (850) 245-6301, email daniel.seinfeld@dos.myflorida.com.

SUPPLEMENTARY INFORMATION: Notice is here given in accordance with the Native American Graves Protection and Repatriation Act (NAGPRA), 25 U.S.C. 3003, of the completion of an inventory of human remains under the control of the Florida Department of State, Division of Historical Resources. The human remains were removed from Duval County, FL.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Florida Department of State, Division of Historical Resources, professional staff in consultation with representatives of the Miccosukee Tribe of Indians and the Seminole Tribe of Florida (previously listed as the Seminole Tribe of Florida (Dania, Big Cypress, Brighton, Hollywood & Tampa Reservations)). The Seminole Nation of Oklahoma was contacted and invited to consult, but did not participate.

History and Description of the remains

In the 1960s, human remains representing, at minimum, one individual were removed from the Mayport Mounds, site 8DU96, in Duval County, FL. In January of 2012, the individual who collected the remains transferred them to an archaeologist working for the Florida Public Archaeology Network (FPAN). Based on the description, the human remains were likely collected from the Mayport Mounds, site 8DU96. The Florida Department of State, Division of Historical Resources, assumed jurisdiction over the remains, based on responsibilities outlined in Florida Statute 872.05. No known individuals were identified. No associated funerary objects are present. The human remains were determined to be those of at least one prehistoric Native American individual, based on osteological analysis, dental wear, and archeological context.

A treaty signed with “Florida Tribes” on September 18, 1823, at Moultrie Creek, FL, included land cessions in present-day Duval County, FL. These “Florida Tribes” are represented by two present-day tribes: the Miccosukee Tribe of Indians and the Seminole Tribe of Florida (previously listed as the Seminole Tribe of Florida (Dania, Big Cypress, Brighton, Hollywood & Tampa Reservations)).

Determinations Made by the Florida Department of State, Division of Historical Resources

Officials at the Florida Department of State, Division of Historical Resources, have determined that:

• Pursuant to 25 U.S.C. 3001(9), the human remains described in this notice are Native American based on osteological analysis and archaeological context.

• Pursuant to 25 U.S.C. 3001(9), the human remains described in this notice represent the physical remains of one individual of Native American ancestry.

• Pursuant to 25 U.S.C. 3001(2), a relationship of shared group identity cannot be reasonably traced between the Native American human remains and any present-day Indian tribe.

• Treaties, Acts of Congress, or Executive Orders indicate that the land from which the Native American human remains were removed is the aboriginal land of the Miccosukee Tribe of Indians and the Seminole Tribe of Florida (previously listed as the Seminole Tribe of Florida (Dania, Big Cypress, Brighton, Hollywood & Tampa Reservations)).

• Pursuant to 43 CFR 10.11(c)(1), the disposition of the human remains may be to the Miccosukee Tribe of Indians and the Seminole Tribe of Florida (previously listed as the Seminole Tribe of Florida (Dania, Big Cypress, Brighton, Hollywood & Tampa Reservations)).

Additional Requestors and Disposition

Representatives of any Indian tribe or Native Hawaiian organization not identified in this notice that wish to request transfer of control of these human remains should submit a written request with information in support of the request to Daniel M. Seinfeld, Florida Department of State, Division of Historical Resources, 1001 de Soto Park Drive, Tallahassee, FL 32301, telephone (850) 245-6301, email daniel.seinfeld@dos.myflorida.com, by May 15, 2013. After that date, if no additional requestors have come forward, transfer of control of the human remains to the Miccosukee Tribe of Indians and the Seminole Tribe of Florida (previously listed as the Seminole Tribe of Florida (Dania, Big Cypress, Brighton, Hollywood & Tampa Reservations)) may proceed.

The Florida Department of State, Division of Historical Resources, is responsible for notifying the Miccosukee Tribe of Indians and the Seminole Tribe of Florida (previously listed as the Seminole Tribe of Florida (Dania, Big Cypress, Brighton, Hollywood & Tampa Reservations)).

Dated: March 26, 2013.
Sherry Hutt,
Manager, National NAGPRA Program.

[FR Doc. 2013-08777 Filed 4-12-13; 8:45 am]

BILLING CODE 4312-50-P